DEPARTMENT OF ENERGY

Federal Energy Regulatory Commission

[Project No. 2854-025]

City of Vidalia, Louisiana; Catalyst Old River Hydroelectric Limited Partnership The Bank of New York Mellon Trust Company, N.A., Successor in Interest to First National Bank of Commerce of New Orleans; Notice of Application for Partial Transfer of License and Soliciting Comments, Motions To Intervene, and Protests

On May 22, 2020, the City of Vidalia, Louisiana (City), Catalyst Old River Hydroelectric Limited Partnership (Catalyst), and the Bank of New York Mellon Trust Company, N.A., not in its individual capacity, but solely as owner trustee (Owner Trustee), successor in interest to the original owner trustee First National Bank of Commerce of New Orleans co-licensees, filed a joint application for partial transfer of the license for the Old River Hydroelectric Project No. 2854. The project is located at the U.S. Army Corps of Engineers' Old River Control Channel, on the Mississippi and Old rivers, in Concordia Parish, Louisiana.

The applicants seek Commission approval to partially transfer the license for the Old River Project from the City, Catalyst, and Owner Trustee as co-licensees to the City and Catalyst as co-licensees. In addition, the application includes a request for approval of an after-the-fact partial transfers of the license from the original owner trustee, First National Bank of Commerce of New Orleans, to the current Owner Trustee.

Applicants Contact: Julia S. Wood, Van Ness Feldman, LLP, 1050 Thomas Jefferson Street NW, Washington, DC 20007, Phone: (202) 298-3800, Email: jsw@vnf.com

FERC Contact: Anumzziatta Purchiaroni, (202) 502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. See 18 CFR 385.2001(a)(1)(iii). Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to Kimberly D. Bose, Secretary, Federal Energy Regulatory Commission, 888 First Street NE, Room 1A, Washington, DC 20426. Submissions sent via any other carrier must be addressed to Kimberly D. Bose, Secretary, Federal Energy Regulatory Commission, 12225 Wilkins Avenue, Rockville, Maryland 20852. The first page of any filing should include docket number P-2854-025. Comments emailed to Commission staff are not considered part of the Commission record.

Dated: July 17, 2020..
Kimberly D. Bose,
Secretary.

[FR Doc. 2020-15965 Filed 7-22-20; 8:45 am]

BILLING CODE 6717-01-P